FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 201347.

Agreement Name: Sallaum/Hyundai Glovis Space Charter Agreement.

Parties: Sallaum Lines Switzerland AS and Hyundai Glovis Co., Ltd.

Filing Party: Wayne Rohde; Cozen O'Connor.

Synopsis: The agreement authorizes Sallaum to charter space to Hyundai Glovis on an “as needed/as available” basis in the trade from ports in Mexico to ports on the Atlantic and Gulf Coasts of the United States.

Proposed Effective Date: 9/14/2020.

Location: https://www2.fmc.gov/FMC.Agreements.Web/Public/AgreementHistory/33505.

Dated: September 18, 2020.
Rachel Dickon,
Secretary.

[FR Doc. 2020-20969 Filed 9-22-20; 8:45 am]

BILLING CODE 6730-02-P